DEPARTMENT OF COMMERCE

National Oceanic and Atmospheric Administration

50 CFR Part 622

[Docket No. 160906822-7547-02; RTID 0648-XD370]

Snapper-Grouper Fishery of the South Atlantic; 2023 Recreational Harvest Closure of Hogfish Off Georgia, South Carolina, and North Carolina in the South Atlantic

AGENCY: National Marine Fisheries Service (NMFS), National Oceanic and Atmospheric Administration (NOAA), Commerce.

ACTION: Temporary rule; closure.

SUMMARY: NMFS implements an accountability measure (AM) for the recreational harvest of hogfish off Georgia, South Carolina, and North Carolina in the South Atlantic exclusive economic zone (EEZ). NMFS estimates that recreational landings of hogfish harvested off Georgia through North Carolina have exceeded the recreational annual catch limit (ACL). Therefore, NMFS closes the recreational sector for hogfish in the EEZ off Georgia through North Carolina to protect the hogfish resource.

DATES: This temporary rule is effective from September 26, 2023, through December 31, 2023.

FOR FURTHER INFORMATION CONTACT: Frank Helies, NMFS Southeast Regional Office, telephone: 727-824-5305, email: frank.helies@noaa.gov.

SUPPLEMENTARY INFORMATION: The snapper-grouper fishery in the South Atlantic EEZ includes hogfish and is managed under the Fishery Management Plan for the Snapper-Grouper Fishery of the South Atlantic Region (FMP). The South Atlantic Fishery Management Council and NMFS prepared the FMP, and NMFS implements the FMP under the authority of the Magnuson-Stevens Fishery Conservation and Management Act (Magnuson-Stevens Act) by regulations at 50 CFR part 622.

In the South Atlantic EEZ, hogfish are managed as two separate stocks: one stock that exists off Georgia, South Carolina, and North Carolina (Georgia-North Carolina), and another stock that exists off the Florida Keys and east Florida. This temporary rule applies only to the recreational harvest of hogfish in the EEZ off Georgia-North Carolina.

The recreational ACL for hogfish off Georgia-North Carolina is 988 fish (50 CFR 622.193(u)(1)(iii)(B)). The AMs for hogfish off Georgia-North Carolina require NMFS to close the recreational harvest for the remainder of the fishing year if landings reach or are projected to reach the recreational ACL (50 CFR 622.193(u)(1)(ii)(A)). The NMFS Southeast Fisheries Science Center estimates that recreational landings of hogfish harvested from the EEZ off Georgia-North Carolina have reached and likely exceeded the recreational ACL. Therefore, this temporary rule implements the AM to close the recreational harvest of hogfish in the EEZ off Georgia-North Carolina for the remainder of the fishing year, which continues through December 31, 2023. During this recreational closure, the recreational bag and possession limits for hogfish off Georgia-North Carolina in or from South Atlantic EEZ are zero fish.

The recreational harvest for hogfish off Georgia-North Carolina for the 2024 fishing year will open again on January 1.

Classification

NMFS issues this action pursuant to section 305(d) of the Magnuson-Stevens Act. This action is required by 50 CFR 622.193(u)(1)(ii)(A), which was issued pursuant to section 304(b) of the Magnuson-Stevens Act, and is exempt from review under Executive Order 12866.

Pursuant to 5 U.S.C. 553(b)(B), there is good cause to waive prior notice and an opportunity for public comment on this action, as notice and comment are unnecessary and contrary to the public interest. Such procedures are unnecessary because the rule that established the recreational ACL and AMs for hogfish was already subject to notice and comment, and all that remains is to notify the public of the closure. Such procedures are contrary to the public interest because of the need to immediately implement this action to protect hogfish off Georgia-North Carolina. The recreational ACL for hogfish off Georgia-North Carolina in the South Atlantic has been reached and likely exceeded, and prior notice and opportunity for public comment would require more time and result in further recreational harvest in excess of the established ACL.

For the reasons just stated, there is also good cause to waive the 30-day delay in the effectiveness of this action under 5 U.S.C. 553(d)(3).

Authority: 16 U.S.C. 1801 et seq.

Dated: September 20, 2023.
Kelly Denit,
Director, Office of Sustainable Fisheries, National Marine Fisheries Service.

[FR Doc. 2023-20705 Filed 9-20-23; 4:15 pm]

BILLING CODE 3510-22-P